DEPARTMENT OF COMMERCE

Bureau of Export Administration

Action Affecting Export Privileges; Tetrabal Corporation, Inc., and Ihsan Medhat “Sammy” Elashi, also known as I. Ash, Haydee Herrera and Abdulah Al Nasser and doing business as Kayali Corp.; Maysoon Al Kayali, Mynet.Net Corp.; Renewal of Order of Temporarily Denying Export Privileges

In the matter of: Tetrabal Corporation, Inc., 605 Trail Lake Drive, Richardson, Texas 75081, and Ihsan Medhat “Sammy” Elashi, also known as: I. Ash, Haydee Herrera, and Abdulah Al Nasser, and doing business as Kayali Corp., 605 Trail Lake Drive, Richardson, Texas 75081; Respondents. Maysoon Al Kayali, 605 Trail Lake Drive, Richardson, Texas 75081; Mynet.Net Corp., 605 Trail Lake Drive, Richardson, Texas 75081; Related persons.

Through the Office of Export Enforcement (“OEE”), the Bureau of Industry and Security (“BIS”), United States Department of Commerce, has asked me to renew in part the order pursuant to section 766.24 of the Export Administration Regulations (currently codified at 15 CFR parts 730-774 (2002)) (“EAR” or “Regulations”),¹ temporarily denying all United States export privileges to Infocom Corporation, Inc., Tetrabal Corporation, Inc. (“Tetrabal”), and Ihsan Medhat “Sammy” Elashi (“Ihsan Elashi”) that was issued on September 6, 2001, and renewed and modified on March 4, 2002. BIS has asked that I continue the order as to Tetrabal and Ihsan Elashi and continue to name Maysoon Al Kayali and Mynet.Net Corp as related persons.²

¹ The Regulations were issued pursuant to the Export Administration Act of 1979 (“Act”), 50 U.S.C. app. 2401-2420 (1994 & Supp. IV 1998), as reauthorized by Act of November 13, 2000, Pub. L. No. 106-508, 114 Stat. 2360. The Act lapsed on August 20, 2001. Pursuant to the International Emergency Powers Act (50 U.S.C. 1701-1706 (1994 & Supp. IV 1998)), the President, through Executive Order 13222 of August 17, 2001 (66 FR 44025 (August 22, 2001)) as extended by the Notice of August 14, 2002 (67 FR 53721 (August 16, 2002)), has continued the Regulations in force.

² BIS has indicated that further investigation has revealed that Abdulah Al Nasser is a name that Ihsan Elashi has used to conduct export business but that the Abdulah Al Nasser in question is not related to Ihsan Elashi. Consequently, Adbulah Al Nasser is no longer a related person but the public is advised that Ihsan Elashi has used that name.

In its request BIS states that, based upon the evidence previously adduced and events occurring since the March 4 renewal of the order, BIS believes that Tetrabal and Ihsan Elashi have violated the Regulations by shipping and attempting to ship goods to Libya and Syria without obtaining the necessary authorizations from BIS, and further violated the Regulations by shipping goods in contravention of the original denial order. After the September 6 order, Ihsan Elashi made at least 10 exports of computer equipment that violated the order. Maysoon Al Kayali assisted Ihsan Elashi in making some of these exports in violation of the denial order. Additionally, Ihsan Elashi used Mynet.Net as the exporter for at least one of the shipments. In several of these exports, Ihsan Elashi used concealment and subterfuge in an attempt to hide his exports which violated the terms of the September 6 order.

Since the issuance of the March 4 order, Ihsan Elashi has pled guilty to violating the September 6 order. On June 17, in U.S. District Court in Dallas, Texas, Ihsan Elashi pled guilty to charges of violating the TDO, access device fraud, money laundering, and wire fraud. Superseding Indictment, CR. NO. 3:02-CR-033-L, NDTX, returned Feb. 7, 2002 (“Indictment”); Plea Agreement, CR. NO. 3:02-CR-033-L, filed Jun. 17, 2002 (“Plea Agreement”). The export control charge that Ihsan Elashi pled guilty to alleged that, on September 22, 2001, he and Tetrabal exported computers and monitors to Saudi Arabia while subject to the TDO in violation of the International Emergency Economic Powers Act, 50 U.S.C. 1702 and 1705(b). Indictment at page 4. Sentencing is set for September 9. Currently, Ihsan Elashi is free on bail.

The Assistant Secretary for Export Enforcement previously found that TDO was necessary and consistent with the public interest in order to preclude future violations of the Regulations. Temporary Denial Order of September 6, 2001, 66 FR 47630, 47631 (Sept. 13, 2001). The acting Assistant Secretary made the same finding upon renewal of the order. Temporary Denial Order of March 4, 2002, 67 FR 10890, 10891 (Sept. 13, 2001). I find that the need for the TDO continues as to Ihsan Elashi and Tetrabal. Ihsan Elashi and his firm, Tetrabal, committed repeated violations of the Regulations that were deliberate and covert, and they actively sought to engage in further export transactions that, given the nature of the items shipped, could go undetected. Id. Ihsan Elashi has pled guilty to a criminal charge of violating the original TDO and faces the possibility of a lengthy term of imprisonment.³ The risk that he and his firm, Tetrabal, would violate the Regulations continues. It is necessary to give notice to companies in the United States and abroad that they should cease dealing with the respondents in export transactions involving U.S.-origin items. The need for the continuation of the TDO as to Ihsan Elashi and Tetrabal as denied persons is also established by the flagrant violations of the order that have occurred more recently and by Ihsan Elashi's continuing ability to violate the Regulations while free on bail pending sentencing.

³ According to a June 19, 2002 press release of the United States Attorney for the Northern District of Texas, Ihsan Elashi faces a maximum penalty of 50 years imprisonment, a fine of $1.25 million or twice the monetary gain to the defendant or twice the financial loss to the victims, as well as a $400 mandatory special assessment on the charges to which he pled guilty.

Accordingly, I am renewing this order with the amendments requested by BIS because I have concluded that a TDO is necessary, in the public interest, to prevent an imminent violation of the Regulations.

It is therefore ordered:

First, that Tetrabal Corporation, Inc., 605 Trail Lake Drive, Richardson, Texas 75081 and Ihsan Medhat “Sammy” Elashi, also known as I, Ash, Haydee Herrera, and Abdulah Al Nasser, and doing business as Kayali Corp., 605 Trail Lake Drive, Richardson, Texas 75081 (collectively, “the denied persons”), and the following persons subject to the order by their relationship to the denied persons, Maysoon, Al Kayali and Mynet.Net Corp, both at 605 Trail Lake Drive, Richardson, Texas 75081 (“the related persons”) (together, the denied persons and the related persons are “persons subject to this order”) may not, directly or indirectly, participate in any way in any transaction involving any commodity, software or technology (hereinafter collectively referred to as “item”) exported or to be exported from the United States that is subject to the Export Administration Regulations (EAR), or in any other activity subject to the Ear, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the EAR, or in any other activity subject to the EAR; or

C. Benefitting in any way from any transaction involving any item exported or to be exported from the United States that is subject to the Ear, or in any other activity subject to the Ear.

Second, that no person may, directly or indirectly, do any of the following:

A. Export or reexport to or on behalf of a person subject to this order any item subject to the Ear;

B. Take any action that facilitates that acquisition or attempted acquisition by a person subject to this order of the ownership, possession, or control of any item subject to the Ear that has been or will be exported from the United States including financing or other support activities related to a transaction whereby a person subject to this order acquires or attempts to acquire such ownership, possession or control;

C. Take any action to acquire from or to facilitate the acquisition or attempted acquisition from a person subject to this order of any item subject to the Ear that has been exported from the United States;

D. Obtain from a person subject to this order in the United States any item subject to the Ear with knowledge or reason to know that the item will be, or is intended to be, exported from the United States; or

E. Engage in any transaction to service any item subject to the Ear that has been or will be exported from the United States and which is owned, possessed or controlled by a person subject to this order, or service any item, of whatever origin, that is owned, possessed or controlled by a person subject to this order if such service involves the use of any item subject to the Ear that has been or will be exported from the United States. For purposes of this paragraph, servicing means installation, maintenance, repair, modification or testing.

Third, that, in addition to the related persons named above, after notice and opportunity for comment as provided in section 766.23 of the Ear, any other person, firm, corporation, or business organization related to the denied person by affiliation, ownership, control, or position of responsibility in the conduct of trade or related services may also be subject to the provisions of this order.

Fourth, that this order does not prohibit any export, reexport, or other transaction subject to the Ear where the only items involved that are subject to the Ear are the foreign-produced direct product of U.S.-origin technology.

In accordance with the provisions of section 766.24(e) of the Regulations, the denied persons may, at any time appeal this Order by filing a full written statement in support of the appeal with the Office of the Administrative Law Judge, U.S. Coast Guard ALJ Docketing Center, 40 South Gay Street, Baltimore, Maryland 21202-4022. A related person may appeal to the Administrative Law Judge at the aforesaid address in accordance with the provisions of section 766.23(c) of the Regulations.

This Order is effective on August 30, 2002 and shall remain in effect for 180 days.

In accordance with the provisions of section 766.24(d) of the Regulations, BIS may seek renewal of this Order by filing a written request not later than 20 days before the expiration date. Tetrabal, or Ihsan Elashi may oppose a request to renew this Order by filing a written submission with the Assistant Secretary for Export Enforcement, which must be received not later than seven days before the expiration date of the Order.

A copy of this Order shall be served on Tetrabal and Ihsan Elashi and each related person and shall be published in the Federal Register.

Entered this 28th day of August, 2002.
Michael J. Garcia,
Assistant Secretary for Export Enforcement.

[FR Doc. 02-22549 Filed 9-3-02; 8:45 am]

BILLING CODE 3510-DT-M